DEPARTMENT OF THE INTERIOR

Bureau of Land Management

[NV-912-05-1990-PO-241A-006F]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), a meeting of the U.S. Department of the Interior, Bureau of Land Management (BLM) Sierra Front-Northwestern Great Basin Resource Advisory Council (RAC), Nevada, will be held as indicated below. Topics for discussion at the meeting will include, but are not limited to: Manager's reports of current field office activities; review of the BLM's Resource Management Planning Process; review of the Pine Nut Mountain RMP Amendment DEIS; a review of Native American tribe consultation procedures; review of proposed 2005 Wild Horse Herd Management Area gathers in the Northwest Great Basin; a panel discussion on water resources transportation issues in Nevada; and additional topics the council may raise during the meeting.

Date & Time: The RAC will meet on Thursday, January 27, 2005, from 9 a.m. to 5 p.m., at the BLM-Carson City Field Office, 5665 Morgan Mill Road, Carson City, Nevada; and on Friday, January 28, 2005, from 8 a.m. to 12 p.m., at the BLM-Nevada State Office, Great Basin A&B Conference Room, 1340 Financial Blvd., Reno, Nevada. All meetings are open to the public. A general public comment period, where the public may submit oral or written comments to the RAC, will be held at 4 p.m. on January 27, 2005.

A final detailed agenda, with any additions/corrections to agenda topics, will be available on the Internet no later than January 13, 2005, at http://www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107, no later than January 13, 2005.

FOR FURTHER INFORMATION CONTACT: Mark Struble, Public Affairs Officer, BLM Carson City Field Office, 5665 Morgan Mill Road, Carson City, NV 89701. Telephone: (775) 885-6107. E-mail: mstruble@nv.blm.gov.

Dated: November 23, 2004.
Don Hicks,
Field Office Manager, BLM-Carson City Field Office.

[FR Doc. 04-26491 Filed 11-30-04; 8:45 am]

BILLING CODE 4310-HC-P